DEPARTMENT OF HOMELAND SECURITY

Coast Guard

[Docket No. USCG-2007-0042]

Application for the Containerized Cargo Ship ATLANTIC COMPASS, Review for the Inclusion in the Shipboard Technology Evaluation Program; Final Environmental Assessment and Finding of No Significant Impact

AGENCY: Coast Guard, DHS.

ACTION: Notice of availability.

SUMMARY: The Coast Guard announces the availability of the Final Environmental Assessment (FEA) and Finding of No Significant Impact (FONSI) that evaluated the potential environmental impacts resulting from accepting the vessel the ATLANTIC COMPASS into the Shipboard Technology Evaluation Program (STEP). Under the STEP, the ATLANTIC COMPASS will be using and testing the Ecochlor ™ Inc. Ballast Water Treatment System (BWTS), as the vessel operates in U.S. waters.

ADDRESSES: Comments and material received from the public, as well as documents mentioned in this notice as being available in the docket, are part of the docket USCG-2007-0042. These documents are available for inspection or copying at the Docket Management Facility (M-30), U.S. Department of Transportation, West Building Ground Floor, Room W12-140, 1200 New Jersey Avenue, SE., Washington, DC 20590-0001, between 9 a.m. and 5 p.m., Monday through Friday, except Federal holidays. You can also find all docketed documents on the Federal Document Management System at http://www.regulations.gov, United States Coast Guard docket number USCG-2007-0042.

You may submit comments identified by docket number USCG-2007-0042 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these methods.

FOR FURTHER INFORMATION CONTACT: If you have questions on this assessment please contact LCDR Brian Moore at 202-372-1434 or e-mail: brian.e.moore@uscg.mil. If you have questions on viewing or submitting material to the docket, call Renee V. Wright, Program Manager, Docket Operations, telephone 202-366-9826.

SUPPLEMENTARY INFORMATION: This document has been tiered off the Programmatic Environmental Assessment (PEA) for STEP dated December 8, 2004 (69 FR 71068, Dec 8, 2004), and was prepared in accordance with the National Environmental Policy Act of 1969 (Section 102 (2)(c)), as implemented by the Council of Environmental Quality regulations (40 CFR parts 1500-1508) and Coast Guard Commandant Instruction M16475.1D. From these documents, the Coast Guard has prepared an FEA and FONSI for accepting the ATLANTIC COMPASS into the STEP.

Response to Comments: The Coast Guard requested comments on the Draft Environmental Assessment (DEA) when the Notice of Availability and Request for Public Comments was published in the Federal Register on April 4, 2008 (73 FR 18543, Apr. 4, 2008). The Coast Guard received 31 substantive comments total from 4 agencies. The Coast Guard has responded to all of the comments that were within the scope of the DEA.

One commenter requested a description of the circumstances under which ballast is discharged without any treatment.

These circumstances are described in 33 CFR 151.2030(b). The Coast Guard has determined that in order to keep the FEA concise this background information should not be included in the document.

One commenter asked for clarification regarding the statement “* * * treatment system is expected to have no impact on water quality, biological resources * * *”. The commenter asked how there could be no impact when residuals (biocides) would be released.

The Coast Guard acknowledges this comment, but disagrees with the inference. This paragraph refers strictly to the effects of the BWT system as it pertains to coastal barrier systems, and, as such, we conclude there will be no impact on water quality as it affects coastal barrier systems. The overall effects of residuals on water quality are discussed elsewhere in the FEA.

One commenter asked under what circumstances a vessel would be granted a safety waiver.

The circumstances in which a safety waiver can be used are described in 33 CFR 151.2030(b). The Coast Guard has determined that in order to keep the FEA concise, this background information should not be included in the FEA.

One commenter requested examples of accuracy and precision related to the target final concentration of the automated system (i.e., does it produce a 5.0 ppm concentration every time or is there some variation involved?).

The Coast Guard has determined that the initial dosage values that have been proposed by the applicant are based solely upon laboratory results using validated Environmental Protection Agency (EPA) methods. The STEP program is intended to provide the sort of detailed information requested by the commenter. As of now, only laboratory values have been established. Gathering actual shipboard examples of dosing parameters is a primary goal of the STEP.

One commenter requested clarification regarding the statement “* * * that chlorite reacts with metals.” The commenter asked which metals would cause a reaction and if processes have been developed to assess vessel damage.

The Coast Guard has determined that the clarification of potential for metal reactions with the treatment chemicals is outside the scope of this FEA, which is narrowly focused on the potential for impacts to the environment. The Coast Guard, the ship's owner/operator, classification society, and flag administration are also monitoring the ship's structure under different laws, rules, and regulations.

One commenter asked how long it would take chlorate to decompose and if chlorate and chlorite have an impact on organisms.

The Coast Guard has determined that the degradation rate of chlorate is similar to that of chlorite, but was not included because it is such a small fraction of the degradation products of ClO2. Both chlorate and chlorite are biocides.

One commenter requested estimated water residency times for the harbors.

The system manufacturer has not provided the Coast Guard with any information about harbor water residency times (for the chemical residuals associated with this system). However, the Coast Guard believes that based on the non-persistent nature of the ClO2 and the long residence time associated with this vessel's voyages, that the amount of residual available for discharge is negligible and should not present an accumulation hazard.

One commenter requested clarification regarding the statement “residual chemical levels are thought to be below applicable EPA and state discharge standards.” The commenter asked if there were any data to support this statement and what the preliminary testing levels and standards were.

The Coast Guard has determined that there are no known state or Federal standards for discharge of ClO2, or its degradation products, into marine waters. However, the reported discharge concentrations of these residuals are not detected when held beyond five days and up to 1.5 ppm when held between one and two days. These levels are below the levels associated with significant toxicity to aquatic organisms, even before the dilution effects of discharge into unconfined waters.

One commenter asked what sodium sulfate concentrations were produced and if they would be toxic. The commenter also asked if there was any information available regarding sodium sulfate and its effects.

The Coast Guard has determined that sulfates in several forms are common constituents of seawater. The Ecochlor™ system is expected to introduce ~5 ppm sulfate against a background of ~2600 ppm sulfate. The impact of this additional load is expected to be negligible.

One commenter requested that a description of the planktonic communities and potential indirect effects on fisheries should be included in the document. The commenter also suggested including a map of the ports.

The Coast Guard disagrees with the suggestion of including a map of the harbor locations. Each port is part of a major metropolitan area of the same name and easily located on any map, chart or Web mapping service. Information on plankton and fisheries is included in the FEA.

One commenter asked if the chlorite residues from the Ecochlor ™ system could impact small marine invertebrates, the food source for the endangered piping plover.

The Coast Guard has consulted with the U.S. Fish and Wildlife Services which has stated that accepting the ATLANTIC COMPASS into the STEP is not likely to adversely affect any listed species including the piping plover, if the ship operates in accordance with its application.

One commenter stated that there was an introduction to Baltimore Harbor, but not Portsmouth Harbor.

The Coast Guard agrees with this comment and has added introductory information about Portsmouth Harbor to the FEA.

One commenter stated that the biological surveys in the section Benthos, Baltimore Harbor are out-dated (conducted in 1975 and 1983). The commenter requested that more recent data be provided.

The Coast Guard agrees with this comment and has updated this section.

One commenter stated that the benthic index of biological integrity information seemed out of place. The commenter suggested that the information be removed or described in more detail. The commenter also requested that information about dominant species be included.

The Coast Guard agrees and the section has been simplified to improve readability and consistency with other sections including discussion of dominant species.

One commenter asked if there were any wetlands in Portsmouth harbor.

The Coast Guard has determined that wetlands in Portsmouth harbor are typical for the Chesapeake and that they are described in the FEA.

One commenter asked if there were any planktivorous fish that may be indirectly affected by potential impacts on planktonic communities.

The Coast Guard believes that the analysis of ecosystems conducted in the PEA includes the potential direct and indirect impacts upon all fish species, including plankton eaters. This analysis has concluded that the range of impacts resulting from the preferred alternative runs from not significant to potentially beneficial based on the probability that the BWMS under evaluation may prevent the introduction of non-indigenous species which could have very significant adverse impacts on the ecosystems under study, including plankton eaters.

One commenter asked for the average salinity and turbidity values for the Newark Bay, what levels were considered low for dissolved oxygen and requested that a list of the toxic pollutants in the Chesapeake Bay be included in the document.

The Coast Guard disagrees that the additional water body characterization information requested by the commenter is necessary to make a determination about whether to accept the ATLANTIC COMPASS into the STEP because the Coast Guard has determined that ambient turbidity, dissolved oxygen, and toxic pollutant levels are not relevant to the degradation pathways for the potential treatment residuals. For the same reason, the Coast Guard declines to include a list of toxic pollutants in the Chesapeake Bay in the document.

One commenter stated that the potential impact of chlorite is underestimated and the toxicity of chlorite is not mentioned in the document. The commenter stated that according to http://www.pesticideinfo.org, chlorite causes serious sub-lethal effects including carcinogenicity and reproductive, developmental, and neurological toxicity. The commenter also stated that it is inadequate to only examine the LC50 of chlorite and that the LC50 is too extreme of an endpoint to determine whether or not the biological resources will be impacted.

Due to the non-persistent nature of the chemicals, the Coast Guard believes that all treatment residues will have degraded to levels sufficiently safe for discharge for the purposes of making a decision about STEP acceptance. Physical and chemical analysis of the treated ballast water is a primary goal of the STEP.

One commenter asked for clarification regarding the statement “the potential impacts from this action will primarily be to the planktonic community”. The commenter stated that out of 13 studies that were listed in Addendum F, only 3 were performed on plankton, and had LC50 well below the value for “compiled toxicity levels” reported in the text (“The compiled toxicity levels are mostly greater than * * * 75,000 ug/L for chlorite * * *”).

Based on the extended residence times that the biocide will be stored in the vessel ballast tanks, the Coast Guard has determined that all treatment residues will have degraded to levels sufficiently safe for discharge for the purposes of making a decision about STEP acceptance. Physical and chemical analysis of the treated ballast water is a primary goal of the STEP.

One commenter stated that the link for EPA Aquire (Addendum F) was broken, and the previous studies need to be properly referenced. The commenter also stated that the table is not reader friendly, and it is unclear whether the algae species tested were not affected by chlorite exposure because chlorite is not toxic to algae, or because the concentrations administered were low.

The Coast Guard was not able to replicate the difficulty locating the EPA Aquire database. The Coast Guard appreciates the time and expertise the EPA has placed into its toxicity database. However, the Coast Guard is not an appropriate agent for making changes to an EPA work product. The data show that algae are not being affected by chlorite. Since the evaluated dosages include the expected maximum discharge concentrations, the negligible impact conclusion is supported.

One commenter asked how chlorite, chlorate, and chlorine dioxide impact biological resources. The commenter also stated that a discussion of the local planktonic communities should be included in the document.

The Coast Guard has determined that the treatment chemical—chlorine dioxide—and its initial degradation products are toxic to biological organisms. That is why they are proposed for use as ballast water treatments. The applicant has provided bench top data that show the residuals of these biocides are small enough and dilute quickly enough upon discharge from the ship that they are not likely to have a long term or cumulative adverse impact on the receiving water. However, characterization and assessment of the effluent is a principal goal of the STEP and these values will be used to determine further suitability of the BWTS for use in U.S. waters. The use of the pesticide info.org report is not directly relevant as that information is based on human exposures which are not likely to occur since the water will be discharged directly to the sea in industrial harbors.

One commenter asked what the typical port pH values were. The commenter also asked what would cause a drop in pH.

The Coast Guard disagrees that the information requested by the commenter is necessary, because of the de minimis volumes on water discharge into the unconfined industrial port waters. Therefore, the requested information is not needed to make a determination whether to accept the ATLANTIC COMPASS into the STEP. Characterization of the effluent is a primary component of the STEP.

One commenter asked for clarification regarding the statement “* * * the discharge pH will still generally be near neutrality * * * not likely pose a significant negative impact.”

The Coast Guard has determined that the actual impact from a single ship discharging into a harbor is too small to have other than a negligible impact to the harbor itself and no measurable impact on the larger coastal environment.

One commenter asked what the chlorine (gas) emission limits were. The commenter also asked if it was harmful and if testing for Cl2 will be conducted.

The Coast Guard has determined that none of the degradation pathways for chlorine dioxide include formation of elemental chlorine (Cl2, a gas at normal temperature); the end product of degradation is chloride ion (Cl−), a harmless and ubiquitous component of seawater.

One commenter asked if there were any long term impacts from chlorite. The commenter stated that chlorite decomposition appears to take between 70-200 days and that this amount of time and the continuous discharges from the vessel (described as every 35 days for a round trip voyage), may result in a build up of chlorite levels in the harbor depending on circulation patterns.

The applicant has provided bench top data that show the residuals of these biocides are very small and dilute below the no observable effect concentration level upon discharge from the ship. The Coast Guard has determined that they are not a long term or cumulative hazard on the receiving water because of their non-persistent nature.

One commenter stated that the information found in Appendix E should be discussed in the body of the document. The commenter also stated that the possibility of residual ClO2 discharge was discussed in the Appendix, but the potential amounts of these discharges should be discussed earlier in the document.

The Coast Guard disagrees with this comment. The specific chemical equations describing the outcome are beyond the scope of the FEA, however, they are provided in the Appendix so that interested parties may verify the conclusions on a scientific basis.

One commenter stated that they did not object to the proposed project, but if this program were to expand, they would recommend review of the environmental assessment by the New Jersey Division of Water Quality (NJDEP). The commenter also stated that if the determination was made that a ship is a fixed pipe discharger, a discharge permit should be required, and reporting requirements should be imposed.

The Coast Guard appreciates the comment and will inform NJDEP of all applicable future STEP vessels.

All of the commenters stated their support and approval for the ATLANTIC COMPASS acceptance into the STEP, and recommended that the application should be granted.

The Coast Guard appreciates all of the comments and support for including the ATLANTIC COMPASS into STEP. FINAL ENVIRONMENTAL ASSESSMENT: The Final PEA for STEP identified and examined the reasonable alternatives available to evaluate novel ballast water management systems for effectiveness against nonindigenous species (NIS) transportation by ships' ballast water.

The FEA for acceptance of the ATLANTIC COMPASS into the STEP and the subsequent operation of the experimental treatment system analyzed the no action alternative and one action alternative that could fulfill the purpose, and need of identifying suitable technologies capable of preventing the transportation of NIS in ships ballast water. Specifically, the FEA for the ATLANTIC COMPASS acceptance into the STEP is tiered off of the PEA for the STEP, and considers the potential impacts to the environment from the operation of the treatment system on the ATLANTIC COMPASS, by examining the functioning of the system, the operational practices of the vessel, and the potential affects on discharge water quality.

This notice is issued under authority of the National Environmental Policy Act of 1969 (Section 102(2)(c)), as implemented by the Council of Environmental Quality regulations (40 CFR parts 1500-1508) and Coast Guard Commandant Instruction M16475.1D.

Dated: November 21, 2008.
Brian M. Salerno,
Rear Admiral, U.S. Coast Guard, Assistant Commandant for Marine Safety, Security and Stewardship.

[FR Doc. E8-28470 Filed 11-28-08; 8:45 am]

BILLING CODE 4910-15-P